DEPARTMENT OF TRANSPORTATION

Federal Railroad Administration

Petition for Waiver of Compliance

In accordance with Part 211 of Title 49 Code of Federal Regulations (CFR), notice is hereby given that the Federal Railroad Administration (FRA) received a request for a waiver of compliance with certain requirements of its safety standards. The individual petition is described below, including the party seeking relief, the regulatory provisions involved, the nature of the relief being requested, and the petitioner's arguments in favor of relief.

New Jersey Transit Rail Operations

[Docket Number FRA-1999-6356]

The New Jersey Transit Rail Operations (NJTR) requests an extension of time for a previously granted temporary waiver of compliance with the Passenger Equipment Safety Standards, 49 CFR part 238.235, for seventy (70) Comet I, low level door passenger coaches. The previously granted waiver requiring that each power operated door that is partitioned from the passenger compartment shall be equipped with a manual override adjacent to that door will expire on December 31, 2003. NJTR expected to retire the 70 cars after receiving 265 new Comet V cars and 160 re-manufactured Comet II cars. NJTR indicates that there have been numerous delays in the delivery of the replacement equipment and requests that the waiver extension be granted until a sufficient number of these cars are delivered to maintain their service.

Interested parties are invited to participate in these proceedings by submitting written views, data, or comments. FRA does not anticipate scheduling a public hearing in connection with these proceedings since the facts do not appear to warrant a hearing. If any interested party desires an opportunity for oral comment, they should notify FRA, in writing, before the end of the comment period and specify the basis for their request.

All communications concerning these proceedings should identify the appropriate docket number (e.g., Waiver Petition Docket Number FRA-1999-6356) and must be submitted to the Docket Clerk, DOT Central Docket Management Facility, Room Pl-401, Washington, DC 20590. Communications received within 45 days of the date of this notice will be considered by FRA before final action is taken. Comments received after that date will be considered as far as practicable. All written communications concerning these proceedings are available for examination during regular business hours (9 a.m.—5 p.m.) at the above facility. All documents in the public docket are also available for inspection and copying on the Internet at the docket facility's Web site at http://dms.dot.gov.

Anyone is able to search the electronic form of all comments received into any of our dockets by the name of the individual submitting the comment (or signing the comment, if submitted on behalf of an association, business, labor union, etc.). You may review DOT's complete Privacy Act Statement in the Federal Register published on April 11, 2000 (Volume 65, Number 70; Pages 19477-78). The Statement may also be found at http://dms.dot.gov.

Issued in Washington, DC. on October 7, 2003.
Grady C. Cothen,
Deputy Associate Administrator for Safety Standards and Program Development.

[FR Doc. 03-25896 Filed 10-10-03; 8:45 am]

BILLING CODE 4910-06-P